DEPARTMENT OF DEFENSE

Defense Acquisition Regulations System

48 CFR Part 203

Defense Federal Acquisition Regulation Supplement; Technical Amendment

AGENCY: Defense Acquisition Regulations System, Department of Defense (DoD).

ACTION: Final rule.

SUMMARY: DoD is making a technical amendment to the Defense Federal Acquisition Regulation Supplement (DFARS) to add a reference for reporting suspected lobbying violations.

DATES: Effective Date: March 30, 2012.

FOR FURTHER INFORMATION CONTACT: Ms. Ynette R. Shelkin, Defense Acquisition Regulations System, OUSD (AT&L) DPAP (DARS), Room 3B855, 3060 Defense Pentagon, Washington, DC 20301-3060. Telephone 571-372-6089; facsimile 571-372-6101.

SUPPLEMENTARY INFORMATION: This final rule amends the DFARS by adding text at 203.806 to provide guidance to explain how and where to report violations or potential violations of the Lobbying Disclosure Act (31 U.S.C. 1352).

List of Subjects in 48 CFR Part 203

Government procurement.

Ynette R. Shelkin,
Editor, Defense Acquisition Regulations System.

Therefore, 48 CFR part 203 is amended as follows:

PART 203—IMPROPER BUSINESS PRACTICES AND PERSONAL CONFLICTS OF INTEREST

1. The authority citation for 48 CFR part 203 is revised to read as follows:

Authority: 41 U.S.C. 1303 and 48 CFR chapter 2.

2. Add subpart 203.8 consisting of section 203.806 to read as follows:

Subpart 203.8—Limitations on the Payment of Funds To Influence Federal Transactions

203.806 Processing suspected violations.

Report suspected violations to the address at PGI 203.8(a).

[FR Doc. 2012-7439 Filed 3-29-12; 8:45 am]

BILLING CODE 5001-06-P